DEPARTMENT OF TRANSPORTATION

Federal Aviation Administration

14 CFR Part 71

[Airspace Docket No. 01-AEA-09FR]

Modification of Class E Airspace; Jamestown, NY

AGENCY: Federal Aviation Administration (FAA) DOT.

ACTION: Final rule.

SUMMARY: This action modifies the Class E2 airspace area at the Chautauqua County/Jamestown Airport (JHW), Jamestown, NY, by expanding the limits of the delegated airspace area. The intended affect of this action is to enhance safety for all potential users of this airspace operating under Instrument Flight Rules (IFR). The development of several Standard Instrument Approach Procedures (SIAP) for the Chautauqua County/Jamestown Airport, Jamestown, NY have made this action necessary. This action is intended to provide adequate Class E airspace for flights executing the revised Global Positioning System (GPS) Approaches. This area will be depicted on aeronautical charts for pilot reference.

EFFECTIVE DATE: 0901 UTC, September 6, 2001.

FOR FURTHER INFORMATION CONTACT: Mr. Francis T. Jordan, Jr., Airspace Specialist, Airspace Branch, AEA-520 FAA Eastern Region, 1 Aviation Plaza, Jamaica, NY 11434-4809; telephone: (718) 553-4521.

SUPPLEMENTARY INFORMATION:

History

On April 18, 2001, the FAA proposed to amend Part 71 of the Federal Aviation Regulations (14 CFR Part 71) to modify the Class E2 airspace at Chautauqua County/Jamestown Airport, NY (66 FR 19908).

Interested parties were invited to participate in this rulemaking proceeding by submitting written comments on the proposal to the FAA. No comments to the proposal were received. The rule is adopted as proposed.

The coordinates for this airspace docket are based on North American Datum 83. Class E airspace areas designated as a surface area for an airport are published in paragraph 6002 of FAA Order 7400.9H, dated September 1, 2000 and effective September 16, 2000, which is incorporated by reference in 14 CFR 71.1. The Class E airspace designation listed in this document will be published in the Order.

The Rule

This amendment to Part 71 of the Federal Aviation Regulations (14 CFR Part 71) modifies the Class E airspace area at Jamestown, NY by expanding the Class E2 airspace.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); (3) does not warrant preparation of a Regulatory Evaluation as the anticipated impact is so minimal.

Since this is a routine matter that will only affect air traffic procedures and air navigation it is certified that this rule will not have significant economic impact on a substantial number of small entities under the criteria of the Regulatory Flexibility Act.

List of Subjects in 14 CFR Part 71

Airspace, Incorporation by reference, Navigation (air).

In consideration of the foregoing, the Federal Aviation Administration amends 14 CFR part 71 as follows:

PART 71—[AMENDED]

1. The authority citation for 14 CFR Part 71 continues to read as follows:

Authority: 49 U.S.C. 106(g), 40103, 40113, 40120, EO 10854, 24 FR 9565, 3 CFR, 1959-1963 Comp., p. 389.

Adoption of the Amendment

§ 71.1 [Amended]

2. The incorporation by reference in 14 CFR 71.1 of Federal Aviation Administration Order 7400.9H, Airspace Designations and Reporting Points, dated September 1, 2000, and effective September 16, 2000, is amended as follows:

Paragraph 6002 Class E airspace areas extending upward from the surface of the earth.

* * * * *

AEA NY E2, Jamestown, NY [Revised]

Chautauqua County/Jamestown Airport, Jamestown, NY

(Lat. 42°09′12″ N., long 79°15′29″ W.)

Within a 6 mile radius of the Chautauqua County/Jamestown Airport. This Class E airspace area is effective during specific dates and times established in advance by a Notice to Airmen. The effective dates and times will thereafter be published continuously in the Airport/Facility Directory.

* * * * *

Issued in Jamaica, New York on July 2, 2001.
Franklin D. Hatfield,
Manager, Air Traffic Division, Eastern Region.

[FR Doc. 01-18231 Filed 7-20-01; 8:45 am]

BILLING CODE 4910-13-M